DEPARTMENT OF THE TREASURY

United States Mint

Notification of Van Buren First Spouse Gold Coin Prices

ACTION: Notification of Van Buren First Spouse Gold Coin Prices.

SUMMARY: The United States Mint is setting prices for the Martin Van Buren First Spouse Gold Proof and Uncirculated Coins.

Pursuant to 31 U.S.C. 5112(o), and in accordance with 31 U.S.C. 9701(b)(2)(B), the United States Mint is setting the price of these coins to reflect the market price of gold. These prices are consistent with recently re-priced, previously introduced 2008 First Spouse Gold Coins.

Effective November 25, 2008, the United States Mint will commence selling Van Buren First Spouse Gold Proof and Uncirculated Gold Coins according to the following price schedule:

Description | Price ($)
Van Buren First Spouse Gold Proof Coin | 549.95
Van Buren First Spouse Gold Uncirculated Coin | 524.95

FOR FURTHER INFORMATION CONTACT: B. B. Craig, Associate Director for Sales and Marketing; United States Mint; 801 Ninth Street, NW., Washington, DC 20220; or call 202-354-7500.

Dated: November 21, 2008.
Edmund C. Moy,
Director, United States Mint.

[FR Doc. E8-28331 Filed 11-26-08; 8:45 am]

BILLING CODE 4810-37-P